DEPARTMENT OF JUSTICE

Drug Enforcement Administration

[Docket No. DEA-697]

Importer of Controlled Substances Application: GE Healthcare

AGENCY: Drug Enforcement Administration, Justice.

ACTION: Notice of application.

SUMMARY: GE Healthcare applied to be registered as an importer of the following basic class(es) of a controlled substance: Cocaine.

DATES: Registered bulk manufacturers of the affected basic class(es), and applicants therefore, may file written comments on or objections to the issuance of the proposed registration on or before September 10, 2020. Such persons may also file a written request for a hearing on the application on or before September 10, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on July 20, 2020, GE Healthcare, 3350 North Ridge Avenue, Arlington Heights, Illinois 60004-1412, applied to be registered as an importer of the following basic class(es) of a controlled substance:

Controlled substance | Drug code | Schedule
Cocaine | 9041 | II

The company plans to import small quantities of Ioflupane, in the form of three separate analogues of cocaine, to validate production and quality control systems, for a reference standard, and for producing material for a future investigational new drug submission. Supplies of this particular controlled substances are not available in the form needed within the current domestic supply of the United States.

William T. McDermott,
Assistant Administrator.

[FR Doc. 2020-17437 Filed 8-10-20; 8:45 am]

BILLING CODE 4410-09-P